DEPARTMENT OF VETERANS AFFAIRS

Special Medical Advisory Group; Notice of Meeting

As required by the Federal Advisory Committee Act, the VA hereby gives notice that the Special Medical Advisory Group has scheduled a meeting on April 11, 2001. The meeting will convene at 9:00 a.m. and end at 2:00 p.m. The meeting will be held in Room 830 at VA Central Office, 810 Vermont Avenue, NW., Washington, DC. The purpose of the meeting is to advise the Secretary and Under Secretary for Health relative to the care and treatment of disabled veterans, and other matters pertinent to the Department's Veterans Health Administration (VHA).

The agenda for the meeting will include a presentation of current issues and future direction for VHA; Capital Asset Realignment for Enhanced Services update; Annual Ethics Briefing; Service Line Experience in Veterans Integrated Service Network 13; and VA Role in Graduate Medical Education.

All sessions will be open to the public. Those wishing to attend should contact Celestine Brockington, Office of the Under Secretary for Health, Department of Veterans Affairs. Her phone number is 202.273.5878.

Dated: March 5, 2001.
By Direction of the Secretary.
Ventris C. Gibson,
Committee Management Officer.

[FR Doc. 01-6242 Filed 3-13-01; 8:45 am]

BILLING CODE 8320-01-M